DEPARTMENT OF ENERGY

Federal Energy Regulatory Commission

[Docket No. RP02-147-000]

ANR Pipeline Company; Notice To Convene Meeting

April 26, 2002.

On January 18, 2002, ANR Pipeline Company filed revised tariff sheets that limits the liability of ANR and its shippers to actual damages in certain circumstances. On February 28, 2002, the Commission accepted and suspended the tariff sheet to be effective on or earlier of August 1, 2002, or a date specified in a further order of the Commission, subject to refund and conditions. The Commission's Dispute Resolution Service (DRS) convened a meeting of the parties on March 13, 2002 regarding the proposed tariff sheet. The DRS conducted a second session on April 23, 2002.

The DRS is scheduling a third session on May 2, 2002, commencing at 10:00 a.m., in Room 3M-3 at the Federal Energy Regulatory Commission, 888 First Street, NE., Washington, DC. At this session, the parties will attempt to achieve resolution on appropriate tariff language in the above-captioned docket through assisted negotiation. If a party has any questions, please call Deborah Osborne at (202) 208-0831.

Magalie R. Salas,
Secretary.

[FR Doc. 02-10865 Filed 5-1-02; 8:45 am]

BILLING CODE 6717-01-P